DEPARTMENT OF THE TREASURY

Customs Service

19 CFR Parts 132 and 163

[T.D. 02-36]

RIN 1515-AD09

Elimination of the Tariff-Rate Quotas on Imported Lamb Meat

AGENCY: Customs Service, Department of the Treasury.

ACTION: Final rule.

SUMMARY: The tariff-rate quota imposed on imported lamb meat products has been eliminated by Presidential Proclamation 7502 of November 14, 2001. Accordingly, this document amends the Customs Regulations by removing the regulation requiring that lamb meat subject to the tariff-rate quota be covered by an export certificate in order to obtain the in-quota rate of duty.

EFFECTIVE DATE: July 16, 2002.

FOR FURTHER INFORMATION CONTACT: Thomas Fitzpatrick, Office of Field Operations, 202-927-5385.

SUPPLEMENTARY INFORMATION:

Background

Presidential Proclamation 7208 of July 7, 1999, as modified by Presidential Proclamation 7214 of July 30, 1999, imposed a temporary tariff-rate quota (TRQ) effective July 22, 1999, on lamb meat imports provided for in subheadings 0204.10.00, 0204.22.20, 0204.23.20, 0204.30.00, 0204.42.20, and 0204.43.20, Harmonized Tariff Schedule of the United States (HTSUS), in order to facilitate the domestic industry's adjustment to import competition. Under Presidential Proclamation 7214, the United States Trade Representative (USTR) was authorized to administer the TRQ on the lamb meat.

Pursuant to Presidential Proclamations 7208 and 7214 and the implementing regulations of the USTR (15 CFR part 2014), the United States Customs Service issued § 132.16 of the Customs Regulations (19 CFR 132.16) which required that lamb meat subject to the TRQ be covered under certain circumstances by an export certificate in order to obtain the in-quota rate of duty. Also, an appropriate reference to the export-certificate requirement of § 132.16 was included in the appendix to part 163, Customs Regulations (19 CFR part 163, Appendix), which lists those records that are required for the entry of imported merchandise. (See Customs interim and final rules in this matter published in the Federal Register on December 2, 1999, and December 13, 2000, respectively (64 FR 67482 and 65 FR 77816).)

The TRQ imposed on the lamb meat has now been eliminated by Presidential Proclamation 7502 of November 14, 2001. With the elimination of this TRQ, there is therefore no longer any need for the regulation requiring that an export certificate cover the lamb meat in order to entitle the lamb meat to the in-quota rate of duty under the TRQ. Accordingly, § 132.16 is being removed from the Customs Regulations as well as the reference to § 132.16 in the Appendix to Part 163.

Inapplicability of Public Notice and Delayed Effective Date Requirements

Because these amendments merely reflect Presidential Proclamation 7502 of November 14, 2001, pursuant to 5 U.S.C. 553(b)(B), notice and public procedure are unnecessary, and for the same reasons, pursuant to 5 U.S.C. 553(d)(3), a delayed effective date is not required.

Regulatory Flexibility Act and Executive Order 12866

Because no notice of proposed rulemaking is required, the provisions of the Regulatory Flexibility Act (5 U.S.C. 601 et seq.) do not apply. These amendments do not meet the criteria for a “significant regulatory action” as specified in Executive Order 12866.

Drafting Information

The principal author of this document was Janet L. Johnson, Regulations Branch, Office of Regulations and Rulings, U.S. Customs Service. However, personnel from other offices participated in its development.

List of Subjects

19 CFR Part 132

Agriculture and agricultural products, Customs duties and inspection, Quotas, Reporting and recordkeeping requirements.

19 CFR Part 163

Administrative practice and procedure, Exports, Reporting and recordkeeping requirements.

Amendments to the Regulations

Parts 132 and 163, Customs Regulations (19 CFR parts 132 and 163), are amended as set forth below.

PART 132—QUOTAS

1. The general authority citation for part 132 continues to read as follows and the relevant specific authority citation for § 132.16 is revised to read as follows:

Authority: 19 U.S.C. 66, 1202 (General Note 23, Harmonized Tariff Schedule of the United States (HTSUS)), 1623,1624. §§ 132.15, 132.17, and 132.18 also issued under 19 U.S.C. 1202 (additional U.S. Note 3 to Chapter 2, HTSUS; additional U.S. Note 8 to Chapter 17, HTSUS; and subchapter II of Chapter 99, HTSUS, respectively), 1484, 1508.

2. Part 132 is amended by removing and reserving § 132.16.

PART 163—RECORDKEEPING

1. The authority citation for Part 163 continues to read as follows:

Authority: 5 U.S.C. 301; 19 U.S.C. 66, 1484, 1508, 1509, 1510, 1624.

2. In the Appendix to part 163, under heading IV, the list of documents/records or information required for entry of special categories of merchandise is amended by removing the listing “§§ 132.15 through 132.17 Export certificates, respectively, for beef, lamb meat, or sugar-containing products subject to tariff-rate quota.” and by adding the following listing in its place:

Appendix to Part 163—Interim (a)(1)(A) List

* * * * *

IV. * * *

§§ 132.15, 132.17 Export certificates, respectively, for beef or sugar-containing products subject to tariff-rate quota.

* * * * *

Robert C. Bonner,
Commissioner of Customs.
Approved: July 10, 2002.
Timothy E. Skud,
Deputy Assistant Secretary of the Treasury.

[FR Doc. 02-17780 Filed 7-15-02; 8:45 am]

BILLING CODE 4820-02-P